DEPARTMENT OF COMMERCE

National Oceanic and Atmospheric Administration

RIN 0648-XD51

Stock Assessment of Small Coastal Sharks in the U.S. Atlantic and Gulf of Mexico

AGENCY: National Marine Fisheries Service (NMFS), National Oceanic and Atmospheric Administration (NOAA), Commerce.

ACTION: Notice of availability.

SUMMARY: NMFS announces the availability of a final stock assessment report on small coastal sharks (SCS) in the Atlantic and Gulf of Mexico. The report summarizes the consensus of review panel assessments, describes methodologies used to determine SCS complex stock status, and details relevant working documents, including copies of Data and Assessment workshop reports.

ADDRESSES: Requests for copies of the SCS final stock assessment report should be sent to Robert Smith, Highly Migratory Species Management Division (F/SF1), National Marine Fisheries Service (NMFS), 1315 East-West Highway, Silver Spring, MD 20910, or may be sent via facsimile (fax) to (301)713-1917 or phone (301)713-2347. Electronic copies of the stock assessment and all supporting documents may also be obtained on the internet at: http://www.sefsc.noaa.gov/sedar/.

FOR FURTHER INFORMATION CONTACT: For information on the methods, data, and results of the stock assessment, contact Enric Cortes by phone at (850) 234-6541 or by fax at (850) 235-3559.

SUPPLEMENTARY INFORMATION: This assessment for SCS was conducted, as close as possible, to the procedures of the Southeast Data, Assessment, and Review (SEDAR) process to ensure the best available data and techniques were used. SEDAR is a cooperative Fishery Management Council process initiated in 2002 to improve the quality and reliability of fishery stock assessments in the South Atlantic, Gulf of Mexico, and U.S. Caribbean. SEDAR emphasizes constituent and stakeholder participation in assessment development, transparency in the assessment process, and a rigorous and independent scientific review of completed stock assessments.

SEDAR is organized around three workshops. The first in the series for the SCS assessment, the Data Workshop, was held in Panama City, FL, February 5 through February 9, 2007, and reviewed and compiled fisheries, monitoring, and life history data. An Assessment Workshop, the second workshop in the series, was held in Panama City, FL, May 7 through May 11, 2007, and developed assessment models and estimated population parameters using the information provided from the Data Workshop. The Review Workshop was the final workshop, in which a panel of independent experts met in Panama City, FL, from August 6 through August 10, 2007, and reviewed the data and assessments and recommended the most appropriate values of critical population and management quantities. All workshops were open to the public. More information on the SEDAR process can be found at http://www.sefsc.noaa.gov/sedar/. Additionally, the final stock assessment report and all supporting documents can be found at that website under the heading “SEDAR 13 - Small Coastal Sharks.”

The assessment reviewed data and models for the SCS complex and for each individual within the SCS complex, as per recommendations in previous assessments. This allowed individual analyses, discussions, and stock status determinations for five separate assessments: 1) SCS complex, 2) Atlantic sharpnose shark, 3) bonnethead shark, 4) blacknose shark, and 5) finetooth sharks. These assessments are included in one report as many of the indices, data, and issues overlap among assessments. The Review Panel found that the data and methods used were appropriate and the best available. The Review Panel also endorsed recommendations for future research contained in the Data Assessment workshop reports, added additional recommendations, and provided comments on the SEDAR process to consider in the future.

Authority: 16 U.S.C. 971 et seq. and 1801 et seq.

Dated: November 5, 2007.
Emily H. Menashes
Acting Director, Office of Sustainable Fisheries, National Marine Fisheries Service.

[FR Doc. E7-22115 Filed 11-9-07; 8:45 am]

BILLING CODE 3510-22-S